NATIONAL CREDIT UNION ADMINISTRATION

Sunshine Act; Notice of Agency Meeting

TIME AND DATE: 10 a.m., Thursday, September 22, 2011.

PLACE: Board Room, 7th Floor, Room 7047, 1775 Duke Street (All visitors must use Diagonal Road Entrance), Alexandria, VA 22314-3428.

STATUS: Open.

Matters To Be Considered

1. Final Rule—Parts 700, 701, 702, and 741 of NCUA's Rules and Regulations, Net Worth and Equity Ratio Definitions.

2. Delegations of Authority.

3. Insurance Fund Report.

RECESS: 11:15 a.m.

TIME AND DATE: 11:30 a.m., Thursday, September 22, 2011.

PLACE: Board Room, 7th Floor, Room 7047, 1775 Duke Street, Alexandria, VA 22314-3428.

STATUS: Closed.

Matters To Be Considered

1. Consideration of Supervisory Activities (2). Closed pursuant to some or all of the following: exemptions (8), (9)(A)(ii) and 9(B).

2. Appeal under Section 701.14 and Part 747, Subpart J of NCUA's Rules and Regulations. Closed pursuant to Exemptions (6) and (8).

3. Charter and Merger Request Pursuant to Part 708b of NCUA's Rules and Regulations. Closed pursuant to exemption (8).

4. Personnel. Closed pursuant to exemption (6).

FOR FURTHER INFORMATION CONTACT: Mary Rupp, Secretary of the Board, Telephone: 703-518-6304.

Mary Rupp,
Board Secretary.

[FR Doc. 2011-24152 Filed 9-15-11; 4:15 pm]

BILLING CODE 7535-01-P